DEPARTMENT OF JUSTICE

Notice of Lodging of Consent Decree Pursuant to the Clean Water Act

Notice is hereby given that on June 21, 2012, a proposed Consent Decree in United States v. Russell Stover Candies, Inc., No. 5:12-cv-04081-RDR-KGS was lodged with the United States District Court for the District of Kansas.

The Consent Decree settles the claims of the United States' set forth in the complaint against Russell Stover Candies for civil penalties for violations of the Pretreatment requirements of the Clean Water Act. The Consent Decree requires the company to pay a civil penalty of $585,000 and perform injunctive relief by monitoring and sampling wastewater discharge.

The Department of Justice will receive for a period of thirty (30) days from the date of this publication comments relating to the Proposed Consent Decree. Comments should be addressed to the Assistant Attorney General, Environment and Natural Resources Division, and either emailed to pubcomment-ees.enrd@usdoj.gov or mailed to P.O. Box 7611, U.S. Department of Justice, Washington, DC 20044-7611, and should refer to United States v. Russell Stover Candies, Inc., No. 5:12-cv-04081-RDR-KGS (D. Kansas), Department of Justice Case Number 90-5-1-1-10129.

During the public comment period, the Proposed Consent Decree may be examined on the following Department of Justice Web site: http://www.justice.gov/enrd/Consent_Decrees.html. A copy of the Proposed Consent Decree may also be obtained by mail from the Consent Decree Library, P.O. Box 7611 U.S. Department of Justice, Washington, DC 20044-7611, or by faxing or emailing a request to “Consent Decree Copy”, EESCDCopy.ENRD@USDOJ.GOV, fax number (202) 514-0097, phone confirmation (202) 514-5271.

If requesting a copy from the Consent Decree Library by mail, please enclose a check in the amount of $10.50 (25 cents per page reproduction cost) payable to the United States Treasury or, if by email or fax, please forward a check in that amount to the Consent Decree Library at the stated address.

Maureen Katz,
Assistant Chief, Environmental Enforcement Section, Environment and Natural Resources Division.

[FR Doc. 2012-15756 Filed 6-27-12; 8:45 am]

BILLING CODE 4410-15-P